NUCLEAR REGULATORY COMMISSION

[NRC-2010-0275]

Notice of Issuance of Regulatory Guide

AGENCY: Nuclear Regulatory Commission.

ACTION: Notice of Issuance and Availability of Revision 1 of Regulatory Guide (RG) 1.179, “Standard Format and Content of License Termination Plans for Nuclear Power Reactors.”

FOR FURTHER INFORMATION CONTACT: James C. Shepherd, U.S. Nuclear Regulatory Commission, Washington, DC 20555-0001, telephone: 301-415-6712 or e-mail James.Shepherd@nrc.gov.

SUPPLEMENTARY INFORMATION:

I. Introduction

The U.S. Nuclear Regulatory Commission (NRC or Commission) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.179, “Standard Format and Content of License Termination Plans for Nuclear Power Reactors,” was issued with a temporary identification as Draft Regulatory Guide, DG-1228. This guide provides general procedures for the preparation of license termination plans for nuclear power reactors. Use of this regulatory guide will help to ensure the completeness of the information provided in a license termination plan, assist the staff of the NRC and others in locating pertinent information, and facilitate the review process. However, the NRC does not require conformance with the procedures, which are provided for guidance only.

II. Further Information

In August 2010, DG-1228 was published with a public comment period of 60 days from the issuance of the guide. The public comment period closed on October 11, 2010, no comments were received. Electronic copies of Regulatory Guide 1.179, Revision 1 are available through the NRC's public Web site under “Regulatory Guides” at http://www.nrc.gov/reading-rm/doc-collections/ and through the NRC's Agencywide Documents Access and Management System (ADAMS) at http://www.nrc.gov/reading-rm/adams.html, under Accession No. ML110490419. The regulatory analysis may be found in ADAMS under Accession No. ML110490425.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resources@nrc.gov.

Regulatory guides are not copyrighted, and NRC approval is not required to reproduce them.

Dated at Rockville, Maryland, this 17th day of June, 2011.
For the Nuclear Regulatory Commission.
Thomas H. Boyce,
Chief, Regulatory Guide Development Branch, Division of Engineering, Office of Nuclear Regulatory Research.

[FR Doc. 2011-16270 Filed 6-28-11; 8:45 am]

BILLING CODE 7590-01-P